DEPARTMENT OF HEALTH AND HUMAN SERVICES

42 CFR Part 71

[Docket No. CDC-2016-0068]

RIN 0920-AA63

Control of Communicable Diseases; Technical Correction

AGENCY: Centers for Disease Control and Prevention (CDC), Department of Health and Human Services (HHS).

ACTION: Final rule; correcting amendment.

SUMMARY: The Centers for Disease Control and Prevention (CDC) in the Department of Health and Human Services (HHS) announces a technical correction to the final rule published on July 10, 2017. The July 10, 2017, technical correction provided amendments to a final rule published on January 19, 2017, but contained an error. HHS/CDC is therefore submitting a new correction to correct that error.

DATES: This correcting amendment is effective May 30, 2018.

FOR FURTHER INFORMATION CONTACT: Jennifer Buigut, Division of Global Migration and Quarantine, Centers for Disease Control and Prevention, 1600 Clifton Road NE, MS-E03, Atlanta, Georgia 30329. Telephone: (404) 498-1600.

SUPPLEMENTARY INFORMATION: On January 19, 2017, HHS/CDC published a final rule (82 FR 6890) that included several non-substantive errors. On July 10, 2017, HHS/CDC published a technical correction (82 FR 31728) to correct errors made in the final rule. However, one new error was inadvertently created by including an instruction to change a word in the title of 42 CFR 71.5 dealing with vessels from “voyage” to “flight.” HHS/CDC therefore, is publishing this correction notice amendment to fix the publication error that was made in the previous technical correction notice.

Section 553(b)(B) of the Administrative Procedure Act (APA), 5 U.S.C. 553(b)(B), provides that, when an agency for good cause finds that notice and public procedure are impracticable, unnecessary, or contrary to the public interest, the agency may issue a rule without providing notice and an opportunity for public comment. We have determined that it is unnecessary to provide prior notice and the opportunity for public comment because the technical correction being made, as discussed below, addresses only a minor publication error that does not substantially change agency actions taken in the final rule.

Control of Communicable Diseases; Correction published at 82 FR 31728 (July 10, 2017), included an error in the title of 42 CFR 71.5 dealing with vessels by changing “voyage” to “flight.” We are now correcting the heading by amending it to read “§ 71.5 Requirements relating to the transmission of vessel passenger, crew, and voyage information for public health purposes.” This correction is minor, non-substantive, and therefore treated as if it had been included in the final rule published in the January 19, 2017, Federal Register.

Summary of Technical Corrections to 42 CFR 71 Foreign Quarantine

The final rule contains a section relating to the transmission of passenger and crew information for vessels, § 71.5. The technical correction published on July 10, 2017 (82 FR 31728), mistakenly changed the title of this section to, “Requirements relating to the transmission of vessel passenger, crew and flight information for public health purposes.” We are now correcting the heading for § 71.5 by changing “flight” to “voyage” because this section describes information pertaining to vessel voyages not aircraft flights.

List of Subjects in 42 CFR 71

Apprehension, CDC, Communicable diseases, Conditional release, Director, Ill person, Isolation, Non-invasive, Public health emergency, Public health prevention measures, Quarantine, Quarantinable Communicable Diseases.

PART 71—FOREIGN QUARANTINE

1. The authority citation for part 71 continues to read as follows:

Authority: Secs. 215 and 311 of Public Health Service (PHS) Act, as amended (42 U.S.C. 216, 243); secs. 361-369, PHS Act, as amended (42 U.S.C. 264-272).

2. In § 71.5, revise the section heading to read as follows:

§ 71.5 Requirements relating to the transmission of vessel passenger, crew, and voyage information for public health purposes.

* * * * *

Dated: May 23, 2018.
Ann C. Agnew,
Executive Secretary, Department of Health and Human Services.

[FR Doc. 2018-11539 Filed 5-29-18; 8:45 am]

BILLING CODE 4163-18-P